DEPARTMENT OF DEFENSE

Office of the Secretary

Meeting of the Secretary of Defense's Defense Advisory Board (DAB) for Employer Support of the Guard and Reserve (ESGR)

AGENCY: Employer Support of the Guard and Reserve, DoD.

ACTION: Notice of Open Meeting.

Dates: 0800-2000, Nov. 29, 2005, (Symposium). 0630-0800, Nov. 30, 2005, (DAB meeting). 0800-1700, Nov. 30, 2005, (Symposium).

Location: Hilton McLean Tyson's Corner, 7920 Jones Branch Drive, McLean, VA 22102.

SUMMARY: The DAB for ESGR meeting will focus on the status of DoD actions and recommendations from previous DAB meetings. In addition, the DAB members will attend the “The New Reserves: Strategic in Peace, Operational in War” symposium at Hilton McLean Tyson's Corner.

FOR FURTHER INFORMATION CONTACT: CPT Edward Hooks at 703-696-1386 x636 or by e-mail at Edward.hooks@osd.mil.

Dated: November 1, 2005.
L.M. Bynum,
Alternate OSD Federal Register Liaison Officer, DoD.

[FR Doc. 05-22071 Filed 11-4-05; 8:45 am]

BILLING CODE 5001-06-M